NUCLEAR REGULATORY COMMISSION

[Docket No. 70-7004; NRC-2024-0145]

American Centrifuge Operating, LLC; American Centrifuge Plant; Environmental Assessment and Finding of No Significant Impact

AGENCY: Nuclear Regulatory Commission.

ACTION: Notice; issuance.

SUMMARY: The U.S. Nuclear Regulatory Commission (NRC) is considering an amendment of Special Nuclear Material (SNM) License No. SNM-2011, issued on April 13, 2007, to American Centrifuge Operating, LLC (ACO) for the operation of the American Centrifuge Plant (ACP). This proposed amendment would increase ACO's licensed material possession limits under the high-assay, low-enriched uranium (HALEU) demonstration and operations program to support production of approximately 1,400 kilograms (kg) of HALEU in the form of uranium hexafluoride (UF6). For this proposed action, the NRC staff is issuing an environmental assessment (EA) and finding of no significant impact (FONSI).

DATES: The EA and FONSI referenced in this document are available on September 19, 2024.

ADDRESSES: Please refer to Docket ID NRC-2024-0145 when contacting the NRC about the availability of information regarding this document. You may obtain publicly available information related to this document using any of the following methods:

• Federal Rulemaking Website: Go to https://www.regulations.gov and search for Docket ID NRC-2024-0145. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section. The EA is available in ADAMS under Accession No. ML24254A206.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Christine Pineda, Office of Nuclear Material Safety and Safeguards, U.S. Nuclear Regulatory Commission, Washington, DC 20555-0001; telephone: 301-415-6789; email: Christine.Pineda@nrc.gov.

SUPPLEMENTARY INFORMATION:

I. Introduction

The NRC is considering an amendment of ACO's Special Nuclear Materials License No. SNM-2011, which authorized the operation of the HALEU cascade at the ACP in Pike County, Ohio in June 2021. If approved, the amendment would increase ACO's licensed material possession limits to support the production of HALEU UF6 from 600 kg to approximately 1,400 kg and would allow ACO to store approximately 1,400 kg of HALEU UF6 at the ACP. As required in section 51.21 of title 10 of the Code of Federal Regulations (10 CFR), “Environmental Protection Regulations for Domestic Licensing and Related Regulatory Functions,” the NRC developed an EA for the proposed license amendment to increase the possession limits for licensed material at the ACP. Based on the results of the EA summarized in this notice, the NRC has determined not to prepare an environmental impact statement (EIS) for the amendment and is issuing a FONSI.

ACO is producing HALEU for the U.S. Department of Energy (DOE). HALEU is uranium that has been enriched so that the concentration of the fissile isotope U-235 is between 5 and 20 percent of the mass of the uranium. The DOE established a 3-phase contract with ACO to deploy a cascade of 16 operating centrifuges and two spare centrifuges to demonstrate the capability to enrich uranium to the higher level. The NRC approved the license amendment for the operation of this HALEU cascade in June 2021. The expiration date of the current phase (phase 2) of the contract that DOE has funded is December 31, 2024. Phase 3, involving up to three, 3-year periods of operation of the HALEU cascade, would need Congressional appropriations and the approval of the NRC to move forward.

II. Summary of Environmental Assessment

Description of the Proposed Action

The proposed action would increase the authorized limits for possession of licensed material for the purpose of producing approximately 1,400 kg of HALEU UF6 from the current HALEU UF6 production amount of 600 kg. This amendment would be effective until DOE's contract with ACO expires on December 31, 2024. If ACO requests an extension of the HALEU cascade program beyond December 31, 2024, the NRC would need to conduct a separate licensing and environmental review for that extension.

ACO operates the HALEU cascade in a building that previously housed the former Lead Cascade Facility, which was decommissioned in 2018. ACO does not propose to construct new buildings, conduct ground-disturbing activities, ship HALEU offsite, or make changes to the HALEU centrifuge cascade design that the NRC approved in 2021.

The proposed action is in accordance with the licensee's application dated February 13, 2023, as supplemented by letters dated June 29, 2023, February 15, 2024, and March 7, 2024.

Need for the Proposed Action

The proposed amendment would allow ACO to continue demonstrating the capability to enrich uranium-235 up to a level necessary to produce HALEU. ACO is under contract with DOE to enrich uranium and produce HALEU using the 16-centrifuge enrichment cascade constructed for this purpose.

Environmental Impacts of the Proposed Action

The NRC staff assessed the potential environmental impacts from the increase in possession limits on land use; historic and cultural resources; visual and scenic resources; climatology, meteorology and air quality; geology and soils; water resources; ecological resources; socioeconomics; noise; traffic and transportation; public and occupational health and safety; and waste management. The NRC staff determined that the proposed action would not affect most resource areas and would not have significant impacts on air quality, transportation, occupational health and safety, and waste management. ACO would not make changes to the enrichment processes or to the outside portions of buildings. All HALEU produced would be stored onsite. All enrichment activities would continue to take place indoors, resulting in no changes to noise levels. Because operations would continue entirely inside buildings, including storage of additional enriched UF6 depleted UF6, and wastes, and because the current rate of HALEU production would not change, there would be no change to potential impacts on public health and safety. Because additional employees would not be required for the proposed action, there would be no change to socioeconomic impacts already assessed. The NRC staff further concluded in the EA that the potential impacts on air quality, occupational health and safety, waste management, and transportation are bounded by the impacts assessed in previous NRC environmental assessments, as documented in the NRC's 2021 EA for the approval of the HALEU demonstration program.

Environmental Impacts of the Alternatives to the Proposed Action

As an alternative to the proposed action, the staff considered denial of the proposed action (i.e., the “no-action” alternative). Under the no-action alternative, the NRC would deny ACO's request and ACO's HALEU production level would remain at 600 kg. The no-action alternative would not permit ACO to meet the terms of DOE's contract with ACO. The potential environmental impacts of denying the request would be unchanged from the impacts as assessed in the NRC's 2021 EA for the approval of the HALEU demonstration program.

Agencies and Persons Consulted

In accordance with NRC policy, on June 27, 2024, the staff consulted with the Ohio Emergency Management Agency, Ohio Environmental Protection Agency, and Ohio Department of Health regarding the EA and FONSI. On July 5, 2024, the staff consulted with U.S. Environmental Protection Agency (EPA) Region 5 regarding the EA and FONSI. In addition, on July 5, 2024, the staff provided a courtesy notification of the proposed action to the Ohio State Historic Preservation Office. The NRC received no comments on the EA.

III. Finding of No Significant Impact

Based on its review of the proposed license amendment request, in accordance with the requirements of 10 CFR part 51, the NRC staff has determined that approving the requested license amendment to increase the possession limits of licensed material for the HALEU demonstration and operations program would not significantly affect the quality of human environment. No significant radiological or non-radiological impacts are expected from the proposed action. Therefore, the NRC staff has determined that, pursuant to 10 CFR 51.31, “Determinations based on environmental assessment,” preparation of an EIS is not required for the proposed action, and pursuant to 10 CFR 51.32, “Finding of no significant impact,” a FONSI is appropriate. In accordance with 10 CFR 51.32(a)(4), this FONSI incorporates the EA summarized in this notice by reference.

IV. Availability of Documents

The documents identified in the following table are available to interested persons through ADAMS.

Document description | ADAMS accession No.
EA for a proposed increase in production of HALEU at the American Centrifuge Plant in Piketon, Ohio, August 2024 | ML24254A206
ACO's application for amendment to increase its licensed material possession limits to support increased HALEU production, February 13, 2023 | ML23047A046
Supplement to ACO's application, June 29, 2023 | ML23187A143
Supplement to ACO's application, February 15, 2024 | ML24054A033
Supplement to ACO's application, March 7, 2024 | ML24072A046
EA for the approval of the HALEU demonstration program, June 2021 | ML21085A705
Email transmitting the draft EA for increased HALEU production to Ohio agencies, June 27, 2024 | ML24194A182
Email to EPA Region 5 transmitting the draft EA for increased HALEU production, July 5, 2024 | ML24194A185
Email to Ohio State Historic Preservation Office re: courtesy notification of NRC review of ACO's license amendment request, July 5, 2024 | ML24194A181

Dated: September 13, 2024.
For the Nuclear Regulatory Commission.
John Moses,
Deputy Director, Division of Rulemaking, Environmental, and Financial Support, Office of Nuclear Material Safety and Safeguards.

[FR Doc. 2024-21276 Filed 9-18-24; 8:45 am]

BILLING CODE 7590-01-P